INTERNATIONAL TRADE COMMISSION

[Investigation Nos. 701-TA-750 and 731-TA-1728 (Final)]

Sol Gel Alumina-Based Ceramic Abrasive Grains From China; Cancellation of Hearing for Antidumping and Countervailing Duty Investigations

AGENCY: United States International Trade Commission.

ACTION: Notice.

DATES: August 5, 2025.

FOR FURTHER INFORMATION CONTACT: Keysha Martinez (202-205-2136), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On May 22, 2025, the Commission established a schedule for the conduct of the final phase of the subject investigations (90 FR 23359, June 2, 2025). On July 28, 2025, counsel for Saint-Gobain Ceramics & Plastics, Inc. filed a request that the Commission cancel the scheduled hearing for these investigations and indicated a willingness to respond to any Commission questions in lieu of an actual hearing. On August 1, 2025, counsel for Saint-Gobain Ceramics & Plastics, Inc. filed a request to appear at the hearing. No other parties submitted a request to appear at the hearing. Consequently, the public hearing in connection with these investigations, scheduled to begin at 9:30 a.m. on Thursday, August 7, 2025, is cancelled. Parties to these investigations should respond to any written questions posed by the Commission in their posthearing briefs, which are due to be filed on August 14, 2025.

For further information concerning this proceeding, see the Commission's notice cited above and the Commission's Rules of Practice and Procedure, part 201, subparts A and B (19 CFR part 201), and part 207, subparts A and C (19 CFR part 207).

Authority: This investigation is being conducted under authority of title VII of the Tariff Act of 1930; this notice is published pursuant to § 207.21 of the Commission's rules.

By order of the Commission.
Issued: August 5, 2025.
Lisa Barton,
Secretary to the Commission.

[FR Doc. 2025-15064 Filed 8-7-25; 8:45 am]

BILLING CODE 7020-02-P